ENVIRONMENTAL PROTECTION AGENCY

[FRL-9911-21-OEI]

Agency Information Collection Activities; OMB Responses

AGENCY: Environmental Protection Agency (EPA).

ACTION: Notice.

SUMMARY: This document announces the Office of Management and Budget (OMB) responses to Agency clearance requests in compliance with the Paperwork Reduction Act (44 U.S.C. 3501 et seq.). An agency may not conduct or sponsor, and a person is not required to respond to, a collection of information unless it displays a currently valid OMB control number.

FOR FURTHER INFORMATION CONTACT: Courtney Kerwin at (202) 566-1669 or email at Kerwin.Courtney@epa.gov and please refer to the appropriate EPA Information Collection Request (ICR) Number.

SUPPLEMENTARY INFORMATION: The OMB control numbers for EPA regulations are listed in 40 CFR part 9 and 48 CFR chapter 15.

OMB Responses to Agency Clearance Requests

OMB Approvals

EPA ICR Number 2456.02; Willingness to Pay for Improved Water Quality in the Chesapeake Bay (Revised); was approved on 04/11/2014; OMB Number 2010-0043; expires on 09/30/2015; Approved with change.

EPA ICR Number 2405.01; Underground Storage Tank: Information Request Letters, Pacific Southwest Region (Region IX) (New); 40 CFR part 280; was approved on 04/11/2014; OMB Number 2050-0210; expires on 08/31/2014; Approved.

EPA ICR Number 1230.29; Prevention of Significant Deterioration and Non-Attainment New Source Review (Renewal); 40 CFR 51.160-51.164; 40 CFR 51.166; 40 CFR part 52.21; 40 CFR 51.165; 40 CFR part 51 Appendix S; 40 CFR 52.24; and 40 CFR 49.166-49.173 and 49.151-49.161; was approved on 04/02/2014; OMB Number 2060-0003; expires on 04/30/2017; Approved with change.

Dated: May 16, 2014.
Erin Collard,
Acting Director, Collections Strategies Division.

[FR Doc. 2014-12462 Filed 6-5-14; 8:45 am]

BILLING CODE 6560-50-P